NUCLEAR REGULATORY COMMISSION

[NRC-2011-0256]

Aging Management of Stainless Steel Structures and Components in Treated Borated Water; Revision 1

AGENCY: Nuclear Regulatory Commission.

ACTION: Interim staff guidance; revision.

SUMMARY: This document corrects License Renewal Interim Staff Guidance, LR-ISG-2011-01, “Aging Management of Stainless Steel Structures and Components in Treated Borated Water,” which was announced in the Federal Register on May 11, 2012 (77 FR 27815). Revision 1 of this document corrects the identification numbers for aging management review (AMR) items in the revised guidance for the Generic Aging Lessons Learned (GALL) Report and the Standard Review Plan for Review of License Renewal Applications for Nuclear Power Plants (SRP-LR), so that the AMR identification numbers are consistent with the GALL Report numbering convention.

ADDRESSES: Please refer to Docket ID NRC-2011-0256 when contacting the NRC about the availability of information regarding this document. You may access information related to this document, which the NRC possesses and are publicly available, using any of the following methods:

• Federal Rulemaking Web site: Go to http://www.regulations.gov and search for Docket ID NRC-2011-0256. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The original LR-ISG-2011-01 is available under ADAMS Accession No. ML12034A047 and LR-ISG-2011-01, Revision 1 is available under ADAMS Accession No. ML12286A275.

• NRC's PDR: You may examine and purchase copies of public documents at the NRC's PDR, Room O1-F21, One White Flint North, 11555 Rockville Pike, Rockville, Maryland 20852.

• NRC's Interim Staff Guidance Web Site: LR-ISG documents are also available online under the “License Renewal” heading at http://www.nrc.gov/reading-rm/doc-collections/#int.

FOR FURTHER INFORMATION CONTACT: Dr. John Wise, Division of License Renewal, Office of Nuclear Reactor Regulation, U.S. Nuclear Regulatory Commission, Washington, DC 20555-0001; telephone: 301-415-8489, or email: John.Wise@nrc.gov, or Ms. Evelyn Gettys, Division of License Renewal, Office of Nuclear Reactor Regulation, U.S. Nuclear Regulatory Commission, Washington, DC 20555-001; telephone: 301-415-4029, or email: Evelyn.Gettys@nrc.gov.

SUPPLEMENTARY INFORMATION:

Background Information

The NRC announced the issuance of License Renewal Interim Staff Guidance LR-ISG-2011-01, “Aging Management of Stainless Steel Structures and Components in Treated Borated Water,” in the Federal Register on May 11, 2012 (77 FR 27815). As issued, LR-ISG-2011-01 contained identification numbers for three AMR items which were inconsistent with the GALL Report numbering convention. To ensure consistency, the NRC is issuing Revision 1 to LR-ISG-2011-01 to correct three AMR identification numbers, as follows:

1. GALL Report Item V.A.EP-74 was corrected to read “V.A.E-20”

2. GALL Report Item VII.E1.AP-79 was corrected to read “VII.E1.A-88”

3. GALL Report Item VII.E1.A-102 was corrected to read “VII.E1.AP-79”

This revision is editorial; it does not affect the technical content of the interim staff guidance.

Backfitting and Issue Finality

Issuance of this corrected LR-ISG does not constitute backfitting as defined in section 50.109 of Title 10 of the Code of Federal Regulations (10 CFR), (the Backfit Rule), and is not otherwise inconsistent with the issue finality provisions in 10 CFR Part 52, “Licenses, Certifications, and Approvals for Nuclear Power Plants.” No substantive changes are being made in this revision. The only changes are the corrections to the identification numbers for three AMRs, which are being made to ensure consistency with the GALL Report's numbering convention.

Dated at Rockville, Maryland, this 7th day of December, 2012.
For the Nuclear Regulatory Commission.
John W. Lubinski,
Director, Division of License Renewal, Office of Nuclear Reactor Regulation.

[FR Doc. 2012-30476 Filed 12-17-12; 8:45 am]

BILLING CODE 7590-01-P